DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information will have practical utility; (b) the accuracy of the agency's estimate of the burden of the proposed collection of information; (c) ways to enhance the quality, utility, and clarity of the information to be collected; and (d) ways to minimize the burden of the collection of information on respondents, including through the use of automated collection techniques or other forms of information technology.

Proposed Project: Protection and Advocacy for Individuals with Mental Illness (PAIMI) Annual Program Performance Report (OMB No. 0930-0169, Revision)

The Protection and Advocacy for Individuals with Mental Illness (PAIMI) Act (42 U.S.C. 10801 et seq.) authorized funds to support protection and advocacy services on behalf of individuals with severe mental illness and severe emotional impairment who are at risk for abuse and neglect and other civil rights violations while under treatment in a residential facility.

Under the PAIMI Act, formula grant awards are made to protection and advocacy (P&A) systems designated by the governors of the 50 states and 6 territories, and the District of Columbia to ensure that the rights of individuals with severe mental illness and severe emotional disturbance are not violated. In October 2000, the PAIMI Act was amended to create a 57th P&A system—the Native American Consortium in Shiprock, New Mexico. Whenever the annual PAIMI appropriation reaches $30 million or more, State P&A systems may serve eligible individuals with serious mental illness or severe emotional impairments, as defined under the Act, residing in the community, including their own homes. However, PAIMI eligible persons residing in public and private residential care or treatment facilities have priority for all P&A system services. The Children's Health Act of 2000 (42 U.S.C. 290aa et seq.), also referenced State P&A authority to obtain information on incidents of seclusion, restraint and related deaths (See Parts H and I of that Act.).

The PAIMI Act requires P & A systems to file an annual report on their activities and accomplishments and to provide information on such topics as: Numbers of individuals served, types of complaints addressed, and the number of intervention strategies used to resolve the presenting issues. Under the Act, there is an Advisory Council which is also required to submit an annual report that assesses the effectiveness of the services provided to, and the activities conducted by, the P&A systems on behalf of PAIMI eligible individuals and their family members.

The Substance Abuse Mental Health Services Administration (SAMHSA) is revising the PAIMI Annual Program Performance Report for the following reasons: (1) To make it consistent with the requirements of the annual reporting requirements under the PAIMI Act and the PAIMI Rules (42 CFR part 51), as well as the new reporting requirements under Parts H & I of the Children's Health Act of 2000 and Part C of the Developmental Disabilities and Patient's Bill of Rights Act of 2000 (42 U.S.C. 6001 et seq.); (2) to conform to the GPRA requirements that SAMHSA obtain information that closely measures actual outcomes of programs that are funded by the agency, and (3) to determine if the reporting burden can be reduced by removing any information that does not facilitate evaluation of the programmatic and fiscal effectiveness of a State P&A system.

SAMHSA proposes revisions to the Annual Advisory Council Report to reflect the statutory and regulatory requirements of the PAIMI Act. Planned revisions to the PAIMI Annual Program Performance Report include, but may not be limited to the following items: (1) Addition of annual actual budget/financial expenditures and sub-contractor information, as required by the PAIMI Act (42 U.S.C. 10805(a)(7) and the PAIMI Rules 42 CFR 51.8); (2) Advisory Council, Governing Board and PAIMI staff demographic information, such as, filled and vacant positions, will be revised in a comprehensive graph format; (3) P&A systems will have more choices so that all “information not available” and “no information provided” statements will be deleted to ensure that the systems focus on gathering more accurate client data during the intake and referral process; (4) Sections (such as, PAIMI program mechanisms for public comment, individual PAIMI clients, grievance procedures) will be revised to capture critical information required under the PAIMI Act, the PAIMI Rules and the Children's Health Act of 2000 and placed in a graph format; (5) Case complaints and problems of the PAIMI eligible individuals served by P&A systems will be modified to capture more accurate information, such as, the number of PAIMI eligible clients not served due to resource and/or priority limitations; (6) Information on the number of open and closed cases involving incidents of abuse, neglect, and civil rights complaints will be expanded to reflect the new PAIMI authorities, e.g., investigations of seclusion, and restraint, and related fatalities in public and private facilities, such as, emergency rooms of general hospitals, interim-care facilities, nursing homes, non-medical community-based facilities for children and youth, etc.; (7) Information on the actual annual program priorities and objectives achieved in the reporting year will be compared to the projected priorities and objectives, submitted with the corresponding grant application for that reporting year, to determine whether the P&A effectively used its resources to achieve individual, systemic or legislative advocacy outcomes and accomplishments on behalf of PAIMI eligible clients; (8) Sections focused on the types of intervention strategies, the public education, training and awareness activities of the P&A systems will be placed in a chart format; and, (9) the Advisory Council Report will be revised so that data collected is consistent with that captured in the Annual PAIMI Performance Report. The revised report formats will be effective for the report due on January 1, 2004.

The annual burden estimate is as follows:

| No. of respondents | No. of responses per respondent | Hours per response | Total hour burden
Annual Program Performance Report | 57 | 1 | 28 | 1,596
Activities and Accomplishments |  |  | (20) | (1,140)
Performance outcomes |  |  | (3) | (171)
Expenses |  |  | (2) | (114)
Budget |  |  | (2) | (114)
Priority statements and objectives |  |  | (1) | (57)
Advisory Council Report | 57 | 1 | 10 | 570
Total | 114 |  |  | 2,166

Send comments to Nancy Pearce, SAMHSA Reports Clearance Officer, Room 16-105, Parklawn Building, 5600 Fishers Lane, Rockville, MD 20857. Written comments should be received within 60 days of this notice.

Dated: July 23, 2002.
Richard Kopanda,
Executive Officer, SAMHSA.

[FR Doc. 02-19165 Filed 7-29-02; 8:45 am]

BILLING CODE 4162-20-U